ENVIRONMENTAL PROTECTION AGENCY

40 CFR Parts 174 and 180

[EPA-HQ-OPP-2015-0032; FRL-9933-26]

Receipt of Several Pesticide Petitions Filed for Residues of Pesticide Chemicals in or on Various Commodities

AGENCY: Environmental Protection Agency (EPA).

ACTION: Notice of filing of petitions and request for comment.

SUMMARY: This document announces EPA's receipt of several initial filings of pesticide petitions requesting the establishment or modification of regulations for residues of pesticide chemicals in or on various commodities.

DATES: Comments must be received on or before October 9, 2015.

ADDRESSES: Submit your comments, identified by the Docket Identification (ID) Number and the Pesticide Petition Number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Director, Biopesticides and Pollution Prevention Division (BPPD) (7511P), main telephone number: (703) 305-7090, email address: BPPDFRNotices@epa.gov; or Susan Lewis, Director, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. What action is EPA taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. EPA is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

New Tolerances

1. PP 5E8377. (EPA-HQ-OPP-2015-0558). Interregional Research Project Number 4 (IR-4), Rutgers University, 500 College Rd. East, Suite 201 W, Princeton, NJ 08540, requests to establish tolerances in 40 CFR 180.523 for residues of the molluscicide metaldehyde, 2,4,6,8-tetramethyl-1,3,5,7-tetroxocane, in or on the following raw agricultural commodities: Wheat forage at 0.05 parts per million (ppm); wheat, grain at 0.05 ppm; wheat, hay at 0.05 ppm; wheat, straw at 0.05 ppm; beet, garden, roots at 0.05 ppm; beet, garden, tops at 0.08 ppm; rutabaga, roots at 0.05 ppm; turnip, roots at 0.05 ppm; turnip greens (tops) at 0.08 ppm; and hop, dried cones at 0.05 ppm. A gas chromatography-mass spectrometry (GC/MS) analytical method for enforcement has been developed for analyzing residues of metaldehyde in food crops, including all of the crops identified above. The limit of quantitation (LOQ) for the method is 0.05 ppm. Contact: RD.

2. PP 5F8368. (EPA-HQ-OPP-2015-0554). Syngenta Crop Protection, LLC, P.O. Box 18300, Greensboro, NC 27419, requests to establish tolerances in 40 CFR 180.242 for residues of the fungicide thiabendazole in or on legume vegetables (succulent or dried), crop group 6 at 0.01 ppm; foliage of legume vegetables, crop group 7, except pea, field, hay and vines at 0.01 ppm; pea, field, hay at 0.15 ppm; and pea, field, vines at 0.03 ppm. There are acceptable analytical methods for tolerance enforcement that include four spectrophotofluorometric methods for the determination of thiabendazole per se in or on plant commodities and one spectrophotofluorometric method (Method D) for determining residues of thiabendazole and 5-hydroxythiabendazole in milk. Contact: RD.

Amended Tolerances

1. PP 5F8364. (EPA-HQ-OPP-2015-0382). Arysta LifeScience North America Corp., 15401 Weston Pkwy., Suite 150, Cary, NC 27513, requests to amend the tolerance in 40 CFR 180.599 for residues of the insecticide acequinocyl in or on hop, dried cones from 4.0 ppm to 15.0 ppm. The analytical method to quantitate residues of acequinocyl and acequinocyl-OH in/on fruit crops utilizes high pressure liquid chromatography (HPLC) using mass spectrometric (MS/MS) detection. Contact: RD.

2. PP 5F8368. (EPA-HQ-OPP-2015-0554). Syngenta Crop Protection, LLC, P.O. Box 18300, Greensboro, NC 27419, requests to amend the tolerances in 40 CFR 180.242 for residues of the fungicide thiabendazole by removing the tolerances in or on bean, dry, seed at 0.1 ppm; and soybean at 0.1 ppm. There are acceptable analytical methods for tolerance enforcement that include four spectrophotofluorometric methods for the determination of thiabendazole per se in or on plant commodities and one spectrophotofluorometric method (Method D) for determining residues of thiabendazole and 5-hydroxythiabendazole in milk. Contact: RD.

New Tolerance Exemptions

1. PP 5F8361. (EPA-HQ-OPP-2015-0488). MacIntosh and Associates, Inc., 1203 Hartford Ave., St. Paul, MN 55116-1622 (on behalf of AgBiTech Pty Ltd, 8 Rocla Ct., Glenvale, Queensland 4350, Australia), requests to establish an exemption from the requirement of a tolerance in 40 CFR part 180 for residues of the microbial insecticide Spodoptera frugiperda Multiple Nucleopolyhedrovirus—3AP2 in or on food crops. The petitioner believes no analytical method is needed because the petitioner is requesting an exemption from tolerance. Contact: BPPD.

2. PP IN-10782. (EPA-HQ-OPP-2015-0524). Spring Trading Co., 10805 W. Timberwagon Cir., Spring, TX 77380 (on behalf of BASF Corp., 100 Campus Dr., Florham Park, NJ 07932), requests to establish an exemption from the requirement of a tolerance for residues of propanamide, 2-hydroxy-N, N-dimethyl- (CAS Reg. No. 35123-06-9) when used as an inert ingredient (solvent, cosolvent) in pesticide formulations applied to growing crops or to raw agricultural commodities after harvest under 40 CFR 180.910 and applied to animals under 40 CFR 180.930. The petitioner believes no analytical method is needed because it is not required for an exemption from the requirement of a tolerance. Contact: RD.

Amended Tolerance Exemption

1. PP 5G8375. (EPA-HQ-OPP-2014-0457). J.R. Simplot Co., 5369 W. Irving St., Boise, ID 83706, requests to amend an exemption from the requirement of a tolerance in 40 CFR 174.534 for residues of the plant-incorporated protectant (PIP) Potato Late Blight Resistance Gene (also known as Rpi-vnt1) in or on potato. The petitioner believes no analytical method is needed because the petitioner is seeking a temporary exemption from the requirement of a tolerance. Contact: BPPD.

Authority: 21 U.S.C. 346a.

Dated: August 27, 2015.
John E. Leahy, Jr.,
Acting Director, Biopesticides and Pollution Prevention Division, Office of Pesticide Programs.

[FR Doc. 2015-22714 Filed 9-8-15; 8:45 am]

BILLING CODE 6560-50-P